DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of May and June, 2000.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,582; Forge Products Corp., Cleveland, OH

TA-W-37,503; Swiss-M-Tex L.P., Travelers Rest, SC

TA-W-37,605; Hyperion Seating Corp., Lewisburg, TN

TA-W-37,573; Santa Cruz Industries, Santa Cruz, CA

In the following cases, the investigation revealed that the criteria for eligibility have not been met for the reasons specified.

TA-W-37,621; Westwood Lighting, Inc., El Paso, TX

TA-W-37,548; Red Plating, Inc., Providence, RI

TA-W-37,640; The Montana Power Co., Butte, MT

TA-W-37,561; Manpower Staffing Services, San Jose, CA

The workers firm does not produce an article as required for certification under Section 222 of the Trade Act of 1974.

TA-W-37,563; Tecumseh Products Co., Somerset, KY

TA-W-37,597; Lebanon Machine, Lebanon, OR

Increased imports did not contribute importantly to worker separations at the firm.

Affirmative Determinations for Worker Adjustment Assistance

The following certifications have been issued; the date following the company name and location of each determination references the impact date for all workers of such determination.

TA-W-37,606 & A; Rocky Apparel LLC, Greenwood, MS and Ruleville, MS: March 28, 1999

TA-W-37,630; Motor Coils Manufacturing Co., Braddock, PA: April 17, 1999

TA-W-37,630; Motor Coils Manufacturing Co., Braddock, PA: April 17, 1999

TA-W-37,416; Triboro Electric Co L.P., Doylestown, PA: April 1, 2000

TA-W-37,609; TI Group Automotive Systems Corp., Valdosta, GA: March 28, 1999

TA-W-37,639; Peninsula Light Metals, LLC and Optima Wheels Formerly Known as Pacific Baja Light Metals, La Miranda, CA: April 29, 1999

TA-W-37,581; General Electric Industrial Systems, 60 Frame Area, Tell City, IN: March 9, 1999

TA-W-37,607; Henry I. Siegel, Inc., Bruceton, TN: April 30, 2000.

TA-W-37,448; Regal Ware, Inc., Jacksonville, AR: February 23, 1999

TA-W-37,552; Williamette Industries, Dallas, OR: May 29, 1999

TA-W-37,554; Ross Corp., Eugene, OR: March 25, 1999

TA-W-37,656; United Protective Clothing, Inc., Purvis, MS: April 11, 1999

TA-W-37,575; Southeastern Apparel Finishing, Inc., Johnson City, TN: March 20, 1999

TA-W-37,558; Exide Corp., Reading, PA: March 20

TA-W-37,569; National Castings, Cicero, IL: March 16, 1999

TA-W-37,362; Jasper Sportswear Corp., Brooklyn, NY: February 1, 1999

TA-W-37,647; The Eureka Co. Div. of White Consolidated Industries, Inc., Bloomington, IL: April 14, 1999

TA-W-37,477; Pinewood Casual, Inc., Philipsburg, PA: February 21, 1999

TA-W-37,535; Alliance Carolina Tool and Mold Corp., Arden, NC: March 22, 1999

TA-W-37,482; Quantum Corp., DLT and Storage Systems Group, Colorado Springs, CO: March 1, 1999

TA-W-37,530; Kellwood Co d/b/a American Recreation Products, Inc., Mineola, TX: March 23, 1999

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of May and June, 2000.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or thereat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. there was no shift in production from the subject firm to Canada or Mexico during the relevant period.

NAFTA-TAA-03849; A. Schulman, Inc., Dispersion Div., Orange, TX

NAFTA-TAA-03810; SWISS-M-Tex L.P., Travelers Rest, SC

NAFTA-TAA-03882; Schmalbach-Lubeca Plastic Containers USA, Inc., Novi, MI

NAFTA-TAA-03846; Lebanon Mchine, Lebanon, OR

NAFTA-TAA-03848; Coho Energy, Inc. d/b/a Coho Resources, Inc., Dallas, TX

NAFTA-TAA-03828; Oregon Manufacturing Services, Inc.; Klamath Falls, OR

NAFTA-TAA-03916; Pope & Talbot, Inc., Newcastle Plant, Newcastle, WY

The investigation revealed that the criteria for eligibility have not been met for the reasons specified.

NAFTA-TAA-03886; Ingersoll-Rand Transportation Organization, Los Angeles, CA

The investigation revealed that workers of the subject firm did not produce an article within the meaning of Section 250(a) of the Trade Act, as amended.

NAFTA-TAA-03865; Sharp Manufacturing Company of America, Memphis, TN

The investigation revealed that criteria (1) has not been met. A significant number or proportion of the workers in such workers' firm or an appropriate subdivision (including workers in any agricultural firm or appropriate subdivision thereof) have become totally or partially separated from employment.

Affirmative Determinations NAFTA-TAA

NAFTA-TAA-03851; National Castings, Cicero, IL: April 7, 1999

NAFTA-TAA-03827; Ross Corp., Eugene, OR: March 24, 1999

NAFTA-TAA-03897; Hillsville Apparel, Inc., Hillsville, VA: May 1, 1999

NAFTA-TAA-03823; Alliance Carolina Tool and Mold Corp., Arden, NC March 22, 1999

NAFTA-TAA-03836; Sony Professional Products Co., Transcom Div., Boca Raton, FL: April 4, 1999

NAFTA-TAA-03893; Peninsula Light Metals, LLC and Optima Wheels, Formerly Known as Pacific Baja Light Metals, La Miranda, CA: April 24, 1999

NAFTA-TAA-03899; TI Group Automotive Systems, Corp., Valdosta, GA: May 2, 1999

NAFTA-TAA-03875; Motor Coils Manufacturing Co., Braddock, PA: May 1, 1999

NAFTA-TAA-03867; Sensus Technologies, Inc., Foundry and Bronze Machining, Uniontown, PA: April 12, 1999

NAFTA-TAA-03873; Solectron Corp., Suwanee, GA: April 25, 1999

NAFTA-TAA-03885; Lind Shoe Co., Somerset, WI: April 20, 1999

NAFTA-TAA-03891; Nortel Networks, Santa Clara, CA: April 27, 1999

NAFTA-TAA-03843; Trinity Industries, Inc., Butler, PA: April 1, 1999

NAFTA-TAA-03838; Rugged Sportswear, Siler City, NC: March 31, 1999

NAFTA-TAA-03864; DTM Products, Div. of Flextronics International, Niwot, CO: April 17, 1999

NAFTA-TAA-03889; Pairgain Technologies, Inc., Tustin, CA: February 25, 1999

NAFTA-TAA-03884; Grayson Enterprises, Inc., Eaton, IN: April 26, 1999

NAFTA-TAA-03833; Berne Apparel, Berne, IN: March 30, 1999

NAFTA-TAA-03718; Oneida Limited Silversmiths, Sherrill, NY: February 4, 1999

NAFTA-TAA-03862; Elcon Products International, Fremont, CA: April 6, 1999

NAFTA-TAA-03901; Hamilton Beach/Proctor Silex, Inc., Mt Airy, NC: January 28, 2000

NAFTA-TAA-03616 & A; Tuckaseigee Mills, Inc., Sewing Div., Bryson City, NC and Sylva, NC: December 1, 1998

NAFTA-TAA-03900; Triboro Electric Co., L.P., Doylestown, PA: April 1, 2000

I hereby certify that the aforementioned determinations were issued during the month of May and June, 2000. Copies of these determinations are available for inspection in Room C-4318, U.S. Department of Labor, 200 Constitution Avenue, N.W., Washington, D.C. 20210 during normal business hours or will be mailed to persons who write to the above address.

Dated: June 1, 2000.
Grant D. Beale,
Program Manager, Division of Trade Adjustment Assistance.

[FR Doc. 00-14475 Filed 6-7-00; 8:45 am]

BILLING CODE 4510-30-M